DEPARTMENT OF THE TREASURY

Submission for OMB Review; Comment Request

July 24, 2000.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before September 5, 2000 to be assured of consideration.

Bureau of the Public Debt (PD)

OMB Number: 1535-0004.

Form Number: PD F 1522.

Type of Review: Extension.

Title: Special Form of Request for Payment of United States Savings and Retirement Securities Where Use of a Detached Request is Authorized.

Description: PD F 1522 is used to request payment of United States Savings and Retirement Securities.

Respondents: Individuals or households.

Estimated Number of Respondents: 56,000.

Estimated Burden Hours Per Respondent: 15 minutes.

Frequency of Response: On occasion.

Estimated Total Reporting Burden Hours: 14,000 hours.

OMB Number: 1535-0005.

Form Number: PD F 3253.

Type of Review: Extension.

Title: Exchange Application for United States Savings Bonds of Series HH.

Description: PD F 3253 is used by owners of Series EE/E bonds or notes to request exchange for Series HH bonds.

Respondents: Individuals or households.

Estimated Number of Respondents: 60,000.

Estimated Burden Hours Per Respondent: 40 minutes.

Frequency of Response: On occasion.

Estimated Total Reporting Burden Hours: 39,960 hours.

OMB Number: 1535-0006.

Form Number: PD F 2458.

Type of Review: Extension.

Title: Certificate of Entitlement United States Savings and Retirement Securities and Checks After Administration of Decedent's Estate.

Description: PD F 2458 is used to establish who is entitled to Savings Bonds/Notes after the estate of a decedent has been settled.

Respondents: Individuals or households.

Estimated Number of Respondents: 7,000.

Estimated Burden Hours Per Respondent: 8 minutes.

Frequency of Response: On occasion.

Estimated Total Reporting Burden Hours: 938 hours.

OMB Number: 1535-0008.

Form Number: PD F 1938.

Type of Review: Extension.

Title: Request for Reissue of United States Savings Bonds/Notes During the Lives of Both Coowners.

Description: PD F 1938 is used to request reissue of Savings Bonds/Notes during the lives of both coowners.

Respondents: Individuals or households.

Estimated Number of Respondents: 37,000.

Estimated Burden Hours Per Respondent: 10 minutes.

Frequency of Response: On occasion.

Estimated Total Reporting Burden Hours: 6,179 hours.

OMB Number: 1535-0014.

Form Number: PD F 1025.

Type of Review: Extension.

Title: Application for Relief on Account of Loss, Theft, or Destruction of United States Registered Securities.

Description: PD F 1025 is used to support a request for relief because of the loss, theft, or destruction of United States Registered Securities.

Respondents: Individuals or households.

Estimated Number of Respondents: 500.

Estimated Burden Hours Per Respondent: 55 minutes.

Frequency of Response: On occasion.

Estimated Total Reporting Burden Hours: 460 hours.

OMB Number: 1535-0015.

Form Number: PD F 1022.

Type of Review: Extension.

Title: Report/Application for Relief on Account of Loss, Theft or Destruction of United States Securities (Organizations).

Description: PD F 1022 is used to obtain relief for lost, stolen or destroyed bearer securities.

Respondents: Business or other for-profit, Not-for-profit institutions, Federal Government, State, Local or Tribal Government.

Estimated Number of Respondents: 100.

Estimated Burden Hours Per Respondent: 55 minutes.

Frequency of Response: On occasion.

Estimated Total Reporting Burden Hours: 92 hours.

OMB Number: 1535-0016.

Form Number: PD F 1022-1.

Type of Review: Extension.

Title: Report Application for Relief on Account of Loss, Theft, or Destruction of United States Bearer Securities (Individuals).

Description: PD F 1022-1 is used to request relief because of the loss, theft or destruction of bearer securities.

Respondents: Individuals or households.

Estimated Number of Respondents: 100.

Estimated Burden Hours Per Respondent: 55 minutes.

Frequency of Response: On occasion.

Estimated Total Reporting Burden Hours: 92 hours.

OMB Number: 1535-0067.

Form Number: PD F 0974.

Type of Review: Extension.

Title: Certificate by Owner of the United States Registered Securities Forged Requests for Payment or Assignments.

Description: PD F 0974 is used by owners of United States Securities to certify that they signature was forged to request for payment or an assignment.

Respondents: Individuals or households.

Estimated Number of Respondents: 3,000.

Estimated Burden Hours Per Respondent: 15 minutes.

Frequency of Response: On occasion.

Estimated Total Reporting Burden Hours: 750 hours.

OMB Number: 1535-0098.

Form Number: PD F 3062-4.

Type of Review: Extension.

Title: Claim for Relief on Account of the Nonreceipt of United States Savings Bonds.

Description: PD F 3062-4 is an application for owner to request a substitute bond in lieu of bonds not received.

Respondents: Individuals or households.

Estimated Number of Respondents: 30,000.

Estimated Burden Hours Per Respondent: 10 minutes.

Frequency of Response: On occasion.

Estimated Total Reporting Burden Hours: 5,010 hours.

OMB Number: 1535-0101.

Form Number: PD F 0345.

Type of Review: Extension.

Title: Description of Registered Securities.

Description: This form is used to identify an owner's registered securities.

Respondents: Individuals or households.

Estimated Number of Respondents: 5,000.

Estimated Burden Hours Per Respondent: 15 minutes.

Frequency of Response: On occasion.

Estimated Total Reporting Burden Hours: 1,250 hours.

Clearance Officer: Vicki S. Thorpe (304) 480-6553, Bureau of the Public Debt, 200 Third Street, Parkersburg, West VA 26106-1328.

OMB Reviewer: Alexander T. Hunt (202) 395-7860, Office of Management and Budget, Room 10226, New Executive Office Building, Washington, DC 20503.

Lois K. Holland,
Departmental Reports, Management Officer.

[FR Doc. 00-19688 Filed 8-2-00; 8:45 am]

BILLING CODE 4810-40-P